ENVIRONMENTAL PROTECTION AGENCY

[EPA-HQ-OAR-2022-0043; FRL-10835-01-OMS]

Agency Information Collection Activities; Submission to the Office of Management and Budget for Review and Approval; Comment Request; NESHAP for Prepared Feeds Manufacturing (Renewal)

AGENCY: Environmental Protection Agency (EPA).

ACTION: Notice.

SUMMARY: The Environmental Protection Agency (EPA) has submitted an information collection request (ICR), NESHAP for Prepared Feeds Manufacturing (EPA ICR Number 2354.06, OMB Control Number 2060-0635) to the Office of Management and Budget (OMB) for review and approval in accordance with the Paperwork Reduction Act. This is a proposed extension of the ICR, which is currently approved through March 31, 2023. Public comments were previously requested via the Federal Register on July 22, 2022 during a 60-day comment period. This notice allows for an additional 30 days for public comments.

DATES: Comments may be submitted on or before April 24, 2023.

ADDRESSES: Submit your comments, referencing Docket ID Number EPA-HQ-OAR-2022-0043, to EPA online using www.regulations.gov (our preferred method), by email to a-and-r-Docket@epa.gov, or by mail to: EPA Docket Center, Environmental Protection Agency, Mail Code 28221T, 1200 Pennsylvania Ave. NW, Washington, DC 20460. EPA's policy is that all comments received will be included in the public docket without change, including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: This is a proposed extension of the ICR, which is currently approved March 31, 2023. An agency may neither conduct nor sponsor, and a person is not required to respond to, a collection of information unless it displays a currently-valid OMB control number.

Public comments were previously requested via the Federal Register on July 22, 2022 during a 60-day comment period (87 FR 443843). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The National Emission Standards for Hazardous Air Pollutants (NESHAP) for Prepared Feeds Manufacturing were promulgated on January 5, 2010; and amended on both July 20, 2010, and December 23, 2011. These regulations apply to existing facilities and new facilities where animal feed (other than feed products for dogs and cats) makes up at least half (by mass) of the facility's annual production of all products. These regulations apply to new and existing area source prepared feeds manufacturing facilities that use one or more materials (additives/premixes) that contain 0.1 percent or greater by weight of chromium (Cr) or 1.0 percent or greater by weight of manganese (Mn). New facilities include those that commenced construction or reconstruction after the date of proposal. This information is being collected to assure compliance with 40 CFR part 63, subpart DDDDDDD.

Form numbers: None.

Respondents/affected entities: Prepared feeds manufacturing facilities that are an area source of hazardous air pollutants (HAPs).

Respondent's obligation to respond: Mandatory (40 CFR part 63, subpart DDDDDDD).

Estimated number of respondents: 1,800 (total).

Frequency of response: Quarterly, annually.

Total estimated burden: 64,100 hours (per year). Burden is defined at 5 CFR 1320.3(b).

Total estimated cost: $7,700,000 (per year), which includes $41,000 in annualized capital/startup and/or operation & maintenance costs.

Changes in the estimates: There is no change in burden from the most-recently approved ICR as currently identified in the OMB Inventory of Approved Burdens. This is due to two considerations. First, the regulations have not changed over the past three years and are not anticipated to change over the next three years. Second, the growth rate for this industry is very low or non-existent, so there is no significant change in the overall burden. There is an increase in the O&M costs from the most recently approved ICR as currently identified in the OMB Inventory of Approved Burdens. The capital costs were adjusted from 2010 to 2020 $ using the CEPCI Equipment Cost Index, and the O&M costs are assumed to be 10 percent of the capital costs; therefore, there is a corresponding increase in the O&M costs.

Courtney Kerwin,
Director, Regulatory Support Division.

[FR Doc. 2023-06116 Filed 3-23-23; 8:45 am]

BILLING CODE 6560-50-P